DEPARTMENT OF COMMERCE

Bureau of the Census

Census Scientific Advisory Committee Public Meeting

AGENCY: Bureau of the Census, Department of Commerce.

ACTION: Notice of public meeting.

SUMMARY: The Bureau of the Census (Census Bureau) is giving notice of a meeting of the Census Scientific Advisory Committee (CSAC). The Committee will address policy, research, and technical issues relating to a full range of Census Bureau programs and activities, including communications, decennial, demographic, economic, field operations, geographic, information technology, and statistics. The CSAC will meet in a plenary session on September 12-13, 2019. Last minute changes to the schedule are possible, which could prevent giving advance public notice of schedule adjustments. Please visit the Census Advisory Committees website for the most current meeting agenda at: https://www.census.gov/about/cac/sac.html. The meeting will be available via webcast at: https://www.census.gov/newsroom/census-live.html.

DATES: September 12-13, 2019. On Thursday, September 12, the meeting will begin at 8:30 a.m. and end at approximately 5 p.m. EDT. On Friday, September 13, the meeting will begin at 8:30 a.m. and end at approximately 2 p.m.

ADDRESSES: The meeting will be held at the U.S. Census Bureau Auditorium, 4600 Silver Hill Road, Suitland, Maryland 20746.

FOR FURTHER INFORMATION CONTACT: Kimberly Leonard, External Stakeholder Program Manager, Office of Program, Performance and Stakeholder Integrations, census.scientific.advisory.committee@census.gov, Department of Commerce, U.S. Census Bureau, Room 8H216A, 4600 Silver Hill Road, Washington, DC 20233, telephone 301-763-7281. For TTY callers, please use the Federal Relay Service 1-800-877-8339.

SUPPLEMENTARY INFORMATION: The members of the CSAC are appointed by the Director, Census Bureau. The Committee provides scientific and technical expertise, as appropriate, to address Census Bureau program needs and objectives. The Committee has been established in accordance with the Federal Advisory Committee Act (Title 5, United States Code, Appendix 2, Section 10).

All meetings are open to the public. A brief period will be set aside at the meeting for public comment on September 13. However, individuals with extensive questions or statements must submit them in writing to: census.scientific.advisory.committee@census.gov (subject line “September 2019 CSAC Meeting Public Comment”), or by letter submission to Kimberly L. Leonard, Committee Liaison Officer, Department of Commerce, U.S. Census Bureau, Room 8H216A, 4600 Silver Hill Road, Washington, DC 20233. Topics of discussion will include the following items:

• Update on the 2020 Census

• Update on Integrated Communications Program

• Update on Partnerships Program

• Proposed 2020 Data Products Plan

• Plans to Evaluate 2020

• 2020 Demographic Analysis Program

• Dissemination Plans for the 2017 Economic Census

• Update on Disclosure Avoidance, Data Products, and Administrative Data

• Status Update on the 2020 Census Data Products Plan

If you plan to attend the meeting, please register by Monday, September 2, 2019. You may access the online registration from the following link: https://csacfallmeeting2019.eventbrite.com.

This meeting is physically accessible to people with disabilities. Requests for sign language interpretation or other auxiliary aids should also be directed to the Committee Liaison Officer as soon as known, and preferably two weeks prior to the meeting.

Please call 301-763-9906 upon arrival at the Census Bureau on the day of the meeting. A photo ID must be presented in order to receive your visitor's badge. Visitors are not allowed beyond the first floor.

Dated: August 7, 2019.
Steven D. Dillingham,
Director, Bureau of the Census.

[FR Doc. 2019-17323 Filed 8-12-19; 8:45 am]

BILLING CODE 3510-07-P